DEPARTMENT OF ENERGY

Federal Energy Regulatory Commission

[Project No. 2213-009]

Public Utility District No. 1 of Cowlitz County, Washington; Notice Of Availability of Final Environmental Assessment

February 25, 2004.

In accordance with the National Environmental Policy Act of 1969, as amended, and the Federal Energy Regulatory Commission's regulations (18 CFR part 380), the Commission staff have reviewed plans, filed September 3, 2003, supplemented November 17, 2003, and December 10, 2003, to repair the Swift No. 2 Project's power canal, tailrace, and switchyard. The project is located on the North Fork Lewis River in Washington.

The project licensee (Public Utility District No. 1 of Cowlitz County) proposes to repair and reconstruct the damage to the Swift No. 2 Project following an April 21, 2002, partial canal breach and washout. Under section 10(c) of the Federal Power Act, the licensee is obligated to maintain the project works in a good state of repair. The licensee has proposed a reasonable schedule for the work. In the final environmental assessment (FEA), Commission staff has analyzed the probable environmental effects of the proposed work and has concluded that approval, with appropriate environmental measures, would not constitute a major Federal action significantly affecting the quality of the human environment.

A copy of the FEA is available for public inspection in the Public Reference Room of the Commission's offices at 888 First Street, NE., Washington, DC 20426. The FEA may also be viewed on the Internet at http://www.ferc.gov using the “eLibrary” link-select “Docket #” and follow the instructions. For assistance, please contact FERC online support at FERCOnlineSupport@ferc.gov or call toll-free 866-208-3676 or (202) 502-8659 for TTY.

Magalie R. Salas,
Secretary.

[FR Doc. E4-447 Filed 3-02-04; 8:45 am]

BILLING CODE 6717-01-P